DEPARTMENT OF COMMERCE

Minority Business Development Agency

[Docket No: 150623548-5548-01]

Guidance on MBDA Applications for Federal Funding; Correction

AGENCY: Minority Business Development Agency, Department of Commerce.

ACTION: Notice of public meeting; correction.

SUMMARY: The Minority Business Development Agency (MBDA) published a notice in the Federal Register of July 1, 2015, a document announcing a public meeting to be held during the MBDA National Training Conference on July 23, 2015 from 1:00 p.m. to 3:30 p.m. Eastern Standard Time (EST). The document contained an incorrect time.

FOR FURTHER INFORMATION CONTACT: For additional information please contact: Ms. Nakita Y. Chambers, Program Manager, Telephone (202) 482-0065, email nchambers@mbda.gov.

Correction

In the Federal Register of July 1, 2015 in FR Doc. 2015-16188, on page 37597, in the third column, correct the DATES caption to read:

DATES: The public meeting will be held on Thursday, July 23, 2015; 1:00 p.m.-3:30 p.m. CDT. The meeting will be available via webinar. Please submit your written questions to Nakita Y. Chambers (See FOR FURTHER INFORMATION CONTACT) no later than July 10, 2015.

Dated: July 6, 2015.
Josephine Arnold,
Chief Counsel.

[FR Doc. 2015-16836 Filed 7-9-15; 8:45 am]

BILLING CODE P